ENVIRONMENTAL PROTECTION AGENCY

[EPA-HQ-OPP-2005-0265; FRL-9972-01]

Dicloran (DCNA); Amendments To Terminate Uses for Certain Pesticide Registrations

AGENCY: Environmental Protection Agency (EPA).

ACTION: Notice.

SUMMARY: This notice announces EPA's final order for the amendments to terminate uses, voluntarily requested by the registrant and accepted by the Agency, of products containing dicloran (DCNA), pursuant to section 6(f)(1) of the Federal Insecticide, Fungicide, and Rodenticide Act (FIFRA), as amended. This termination order follows a March 16, 2016 Federal Register Notice of Receipt of Request from the registrant listed in Table 2 of Unit III. to voluntarily amend product registrations to terminate DCNA use on certain products. The Agency hereby issues in this notice a termination order granting the requested amendments to terminate DCNA use on certain products. Any distribution, sale, or use of the products subject to this termination order is permitted only in accordance with the terms of this order, including any existing stocks provisions.

DATES: The amendments are valid February 1, 2018.

FOR FURTHER INFORMATION CONTACT: Patricia Biggio, Pesticide Re-evaluation Division (7508P), Office of Pesticide Programs, Environmental Protection Agency, 1200 Pennsylvania Ave. NW, Washington, DC 20460-0001; telephone number: (703) 347-0547; fax number: (703) 308-7070; email address: biggio.patricia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2005-0265. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

This termination order follows a Federal Register of March 16, 2016 (81 FR 14109) (FRL-9941-37), Notice of Receipt of Request from the registrant listed in Table 2 of Unit III. to voluntarily amend product registrations to terminate DCNA use on apricot, chrysanthemum, conifer, gladiolus, grape, greenhouse cucumber, greenhouse lettuce, greenhouse rhubarb, greenhouse tomato, nectarine, peach, plum/prune, rose, and sweet cherry. These are not the last products containing this pesticide registered for use in the United States (U.S.). In the March 16, 2016 notice, EPA indicated that it would issue an order implementing the amendments to terminate uses, unless the Agency received substantive comments within the 180-day comment period that would merit its further review of these requests, or unless the registrant withdrew their request. The Agency received seven comments on the notice; none of which would affect the Agency's action. The Agency hereby issues in this notice a termination order granting the requested amendments to terminate these DCNA uses.

III. What action is the Agency taking?

This notice announces the amendments to delete uses, as requested by the sole registrant, of products registered under section 3 of FIFRA. These registrations are listed in sequence by registration number in Table 1 of this unit.

Table 1—DCNA Product Registration Amendments To Delete Uses
EPA registration No. | Product name | Uses deleted
10163-189 10163-195 10163-226 | Botran 75-W Fungicide Botran Technical Botran 5F Fungicide | apricots, chrysanthemums, conifers, gladiolus, grapes, greenhouse cucumbers, greenhouse lettuce, greenhouse rhubarb, greenhouse tomato, nectarines, peaches, plums/prunes, roses, and sweet cherries.
10163-329 | Botran P 5F Fungicide

Table 2 of this unit includes the name and address of record for the registrant of the products in Table 1 of this unit, in sequence by EPA company number. This number corresponds to the first part of the EPA registration numbers of the products listed above.

Table 2—Registrant of Amended Products
EPA company No. | Company name and address
10163 | Gowan Company, P.O. Box 5569, Yuma, AZ 85366-5569.

IV. Summary of Public Comments Received and Agency Response to Comments

During the public comment period provided, EPA received seven comments in response to the Federal Register of March 16, 2016 (81 FR 14109), notice announcing the Agency's receipt of the request to voluntarily amend product registrations to delete DCNA uses for products listed in Table 1 of Unit III.

Six of the seven comments were from growers outside of the U.S. that supported the continued use of DCNA. In addition, the Agency also received a single comment from the registrant (Gowan) which proposed the conversion of dicloran crop residue tolerances to import tolerances based on conclusions from previous DCNA risk assessments and Pesticide Data Program (PDP) data from 2004 to 2014. The Agency has reviewed these comments and the Agency's formal response is available at regulation.gov in the DCNA reregistration docket EPA-HQ-OPP-2005-0265.

Per the Agency's response, the 2006 dietary risk assessment concluded that dietary exposure from all currently registered crops does not exceed the Agency's level of concern. In addition, following a review of available monitoring data, EPA concluded that the small number of samples with detectable residues in monitoring data and the low residue levels found in those samples support Gowan's claim that imported commodities are not likely to pose risks of concern. The monitoring data also supports Gowan's assertion that the subject commodities will not likely be contaminated with residue levels over tolerance. Therefore, the Agency does not expect that the use of DCNA on the subject commodities will create a risk of concern. As such, the Agency supports retaining the DCNA tolerances for import of these commodities to avoid potential trade barriers with countries that use Codex Maximum Residue Levels (MRLs) or have DCNA tolerances established for these commodities, and will convert the existing tolerances to import tolerances in a separate action.

V. Cancellation Order

Pursuant to FIFRA section 6(f), EPA hereby approves the requested amendments to terminate uses of DCNA for registrations identified in Table 1 of Unit III. Accordingly, the Agency hereby orders that the product registrations identified in Table 1 of Unit III. are amended to terminate use on apricots, chrysanthemums, conifers, gladiolus, grapes, greenhouse cucumbers, greenhouse lettuce, greenhouse rhubarb, greenhouse tomato, nectarines, peaches, plums/prunes, roses, and sweet cherries. The effective date of the amendments to terminate affected uses that are subject of this notice is February 1, 2018. Any distribution, sale, or use of existing stocks of the products identified in Table 1 of Unit III. in a manner inconsistent with any of the provisions for disposition of existing stocks set forth in Unit VII. will be a violation of FIFRA.

VI. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of March 16, 2016 (81 FR 14109) (FRL-9941-37). The comment period closed on September 12, 2016.

VII. Provisions for Disposition of Existing Stocks

Existing stocks are those stocks of registered pesticide products which are currently in the United States and which were packaged, labeled, and released for shipment prior to the effective date of the action. The existing stocks provision for the products subject to this order is as follows.

The registrant may continue to sell and distribute existing stocks of products listed in Table 1 until February 1, 2019, which is 1 year after publication of this termination order in the Federal Register. Thereafter, the registrant is prohibited from selling or distributing products listed in Table 1 of Unit III. that contains directions for use on the deleted uses, except for export in accordance with FIFRA section 17 or for proper disposal.

Persons other than the registrant may sell, distribute, or use existing stocks of products listed in Table 1 of Unit III until supplies are exhausted, provided that such sale, distribution, or use is consistent with the terms of the previously approved labeling on, or that accompanied, the deleted uses.

Authority: 7 U.S.C. 136 et. seq.

Dated: January 10, 2018.
Yu-Ting Guilaran,
Director, Pesticide Re-evaluation Division, Office of Pesticide Programs.

[FR Doc. 2018-02027 Filed 1-31-18; 8:45 am]

BILLING CODE 6560-50-P